NATIONAL SCIENCE FOUNDATION

Advisory Committee for Social, Behavioral & Economic Sciences; Notice of Meeting

In accordance with the Federal Advisory Committee Act (Pub. L. 92-463, as amended), the National Science Foundation (NSF) announces the following meeting:

Name and Committee Code: Advisory Committee for Social, Behavioral & Economic Sciences (#1171) (Hybrid).

Date and Time: December 12-13, 2024; 10 a.m.-4 p.m. (eastern).

Place: NSF, 2415 Eisenhower Avenue, Room W 2210-2220, Alexandria, VA 22314 (In-Person and Virtual).

To attend in person: We encourage visitors to pre-register for the meeting by contacting Bela Jang at bejang@nsf.gov. All visitors are asked to check in at the NSF visitor center on the first floor to receive a visitor pass before proceeding to Room W 2210-2220. A government-issued photo ID will be required to gain admission to the building. Get more information on the Visit NSF web page (https://new.nsf.gov/about/visit).

Please see the following link to learn how to attend the event via Zoom: https://new.nsf.gov/events/fall-2024-social-behavioral-economic-sciences-advisory/2024-12-12.

Type of Meeting: Open.

Contact Person: Andy DeSoto, National Science Foundation, 2415 Eisenhower Avenue, Alexandria, VA 22314; Telephone: 703-292-8700.

Purpose of Meeting: To provide advice, recommendations and counsel on major goals and strategies pertaining to SBE programs and activities.

Agenda:

• Welcome, Introductions, Approval of Previous Advisory Committee Meeting Summary, and Preview of Agenda

• Directorate for Social, Behavioral, and Economic Sciences (SBE) Update

• Current and Future SBE Contributions to the Bioeconomy

• Partnership between NSF and the National Endowment for the Humanities

• Meeting with NSF Leadership

• AC Member Presentation

• Discussion on SBE Value

• Discussion About Future Advisory Committee Meetings

• Wrap-up, Assignments, Closing Remarks

Dated: November 8, 2024.
Crystal Robinson,
Committee Management Officer.

[FR Doc. 2024-26633 Filed 11-14-24; 8:45 am]

BILLING CODE 7555-01-P